DEPARTMENT OF HEALTH AND HUMAN SERVICES

Food and Drug Administration

21 CFR Part 73

[Docket No. FDA-2008-C-0098]

Listing of Color Additives Exempt From Certification; Bismuth Citrate; Confirmation of Effective Date

AGENCY: Food and Drug Administration, HHS.

ACTION: Final rule; confirmation of effective date.

SUMMARY: The Food and Drug Administration (FDA) is confirming the effective date of April 27, 2010, for the final rule that appeared in the Federal Register of March 26, 2010. The final rule amended the color additive regulations by increasing the permitted use level of bismuth citrate as a color additive in cosmetics intended for coloring hair on the scalp.

DATES: The effective date for the final rule published in the Federal Register of March 26, 2010 (75 FR 14491) is confirmed as April 27, 2010.

FOR FURTHER INFORMATION CONTACT: Felicia M. Ellison, Center for Food Safety and Applied Nutrition (HFS-265), Food and Drug Administration, 5100 Paint Branch Pkwy., College Park, MD 20740-3835, 301-436-1264.

SUPPLEMENTARY INFORMATION: In the Federal Register of March 26, 2010 (75 FR 14491), FDA amended the color additive regulations in § 73.2110 (21 CFR 73.2110) by increasing the permitted use level of bismuth citrate as a color additive in cosmetics intended for coloring hair on the scalp.

FDA gave interested persons until April 26, 2010, to file objections or requests for a hearing. The agency received no objections or requests for a hearing on the final rule. Therefore, FDA finds that the effective date of the final rule that published in the Federal Register of March 26, 2010, should be confirmed.

List of Subjects in 21 CFR Part 73

Color additives, Cosmetics, Drugs, Medical devices.

Therefore, under the Federal Food, Drug, and Cosmetic Act (21 U.S.C. 321, 341, 342, 343, 348, 351, 352, 355, 361, 362, 371, 379e) and under authority delegated to the Commissioner of Food and Drugs, and redelegated to the Director, Office of Food Additive Safety, notice is given that no objections or requests for a hearing were filed in response to the March 26, 2010, final rule. Accordingly, the amendments issued thereby became effective April 27, 2010.

Dated: June 11, 2010.
Mitchell A. Cheeseman,
Acting Director, Office of Food Additive Safety, Center for Food Safety and Applied Nutrition.

[FR Doc. 2010-14598 Filed 6-16-10; 8:45 am]

BILLING CODE 4160-01-S